DEPARTMENT OF ENERGY

Federal Energy Regulatory Commission

Combined Notice of Filings #1

Take notice that the Commission received the following electric rate filings:

Docket Numbers: ER17-1821-004.

Applicants: Panda Stonewall LLC.

Description: Refund Report: Potomac Energy Center, LLC submits tariff filing per 35.19a(b): Refund Report to be effective N/A.

Filed Date: 1/14/22.

Accession Number: 20220114-5146.

Comment Date: 5 p.m. ET 2/4/22.

Docket Numbers: ER22-46-003.

Applicants: Parkway Generation Essex, LLC.

Description: Tariff Amendment: Supplement to Petition for Order Accepting for Filing Market-Based Rate Tariff to be effective 12/1/2021.

Filed Date: 1/14/22.

Accession Number: 20220114-5122.

Comment Date: 5 p.m. ET 2/4/22.

Docket Numbers: ER22-186-001.

Applicants: Middletown Coke Company, LLC.

Description: Tariff Amendment: Supplemental Filing to 187 to be effective 11/1/2021.

Filed Date: 1/14/22.

Accession Number: 20220114-5100.

Comment Date: 5 p.m. ET 2/4/22.

Docket Numbers: ER22-764-001.

Applicants: PJM Interconnection, L.L.C.

Description: Tariff Amendment: Errata to WMPA, SA No. 6273; Queue No. AG2-422 in Docket No. ER22-764-000 to be effective 12/7/2021.

Filed Date: 1/14/22.

Accession Number: 20220114-5179.

Comment Date: 5 p.m. ET 2/4/22.

Docket Numbers: ER22-820-000.

Applicants: The Potomac Edison Company, PJM Interconnection, L.L.C.

Description: § 205(d) Rate Filing: The Potomac Edison Company submits tariff filing per 35.13(a)(2)(iii: Potomac Edison submits Construction SA No. 6133 Hagerstown-Maple Ave Project to be effective 3/15/2022.

Filed Date: 1/13/22.

Accession Number: 20220113-5159.

Comment Date: 5 p.m. ET 2/3/22.

Docket Numbers: ER22-821-000.

Applicants: Spotlight Power LLC.

Description: Baseline eTariff Filing: Spotlight Power LLC Baseline MBR Tariff & Application to be effective 2/1/2022.

Filed Date: 1/14/22.

Accession Number: 20220114-5065.

Comment Date: 5 p.m. ET 2/4/22.

Docket Numbers: ER22-822-000.

Applicants: Southwest Power Pool, Inc.

Description: § 205(d) Rate Filing: 3164R1 Milligan 3 Wind LLC GIA Cancellation to be effective 1/9/2022.

Filed Date: 1/14/22.

Accession Number: 20220114-5095.

Comment Date: 5 p.m. ET 2/4/22.

Docket Numbers: ER22-823-000.

Applicants: PJM Interconnection, L.L.C.

Description: § 205(d) Rate Filing: Amendment to ISA, Service Agreement No. 3761, Racine ISA (consent) to be effective 12/31/2013.

Filed Date: 1/14/22.

Accession Number: 20220114-5129.

Comment Date: 5 p.m. ET 2/4/22.

Docket Numbers: ER22-824-000.

Applicants: Mid-Atlantic Interstate Transmission, LLC, PJM Interconnection, L.L.C.

Description: § 205(d) Rate Filing: Mid-Atlantic Interstate Transmission, LLC submits tariff filing per 35.13(a)(2)(iii: MAIT submits SA No. 6148 Tipton ECSA to be effective 3/16/2022.

Filed Date: 1/14/22.

Accession Number: 20220114-5160.

Comment Date: 5 p.m. ET 2/4/22.

Docket Numbers: ER22-825-000.

Applicants: American Transmission Systems, Incorporated, PJM Interconnection, L.L.C.

Description: § 205(d) Rate Filing: American Transmission Systems, Incorporated submits tariff filing per 35.13(a)(2)(iii: ATSI submits two ECSAs, SA Nos. 6142 Ivanhoe & 6149 Ontario to be effective 3/16/2022.

Filed Date: 1/14/22.

Accession Number: 20220114-5167.

Comment Date: 5 p.m. ET 2/4/22.

Docket Numbers: ER22-826-000.

Applicants: Mid-Atlantic Interstate Transmission, LLC, Pennsylvania Electric Company, PJM Interconnection, L.L.C.

Description: § 205(d) Rate Filing: Mid-Atlantic Interstate Transmission, LLC submits tariff filing per 35.13(a)(2)(iii: MAIT, Penelec and AEC submit SA No. 5775 Saltillo Construction Agreement to be effective 3/16/2022.

Filed Date: 1/14/22.

Accession Number: 20220114-5174.

Comment Date: 5 p.m. ET 2/4/22.

Docket Numbers: ER22-827-000.

Applicants: Kentucky Utilities Company.

Description: § 205(d) Rate Filing: Amended and Restated Agreement for Borderline Service with Appalachian Power Co to be effective 1/17/2022.

Filed Date: 1/14/22.

Accession Number: 20220114-5178.

Comment Date: 5 p.m. ET 2/4/22.

Take notice that the Commission received the following electric securities filings:

Docket Numbers: ES22-25-000.

Applicants: Union Electric Company d/b/a Ameren Missouri.

Description: Application Under Section 204 of the Federal Power Act for Authorization to Issue Securities of Union Electric Company.

Filed Date: 1/14/22.

Accession Number: 20220114-5175.

Comment Date: 5 p.m. ET 2/4/22.

The filings are accessible in the Commission's eLibrary system (https://elibrary.ferc.gov/idmws/search/fercgensearch.asp) by querying the docket number. Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 14, 2022.
Kimberly D. Bose,
Secretary.

[FR Doc. 2022-01172 Filed 1-20-22; 8:45 am]

BILLING CODE 6717-01-P